DEPARTMENT OF THE TREASURY

Internal Revenue Service

26 CFR Part 1

[TD 9546]

RIN 1545-BD04

Definition of Solid Waste Disposal Facilities for Tax-Exempt Bond Purposes; Correction

AGENCY: Internal Revenue Service (IRS), Treasury.

ACTION: Correction to final regulations.

SUMMARY: This document contains corrections to final regulations (TD 9546) that were published in the Federal Register on Friday, August 19, 2011, on the definition of solid waste disposal facilities for purposes of the rules applicable to tax-exempt bonds issued by State and local governments. These regulations provide guidance to State and local governments that issue tax-exempt bonds to finance solid waste disposal facilities and to taxpayers that use those facilities.

DATES: This correction is effective September 7, 2011 and is applicable beginning October 18, 2011.

FOR FURTHER INFORMATION CONTACT: Timothy Jones, (202) 622-3980 (not a toll free number).

SUPPLEMENTARY INFORMATION:

Background

The final regulations (TD 9546) that are the subject of this correction are under section 142 of the Internal Revenue Code.

Need for Correction

As published August 19, 2001 (76 FR 51879), the final regulations (TD 9546) contain errors that may prove to be misleading and are in need of clarification.

Correction of Publication

Accordingly, the final regulations (TD 9546), that are the subject of FR Doc. 2011-21154, are corrected as follows:

1. On page 51879, column 3, in the preamble, under the paragraph heading “Explanation of Provisions”, line 11 from the bottom of the second paragraph, the language ““that has no market or other value at the place where the property is located”” is corrected to read “that has no market or other value at the place where the property is located”.

2. On page 51880, column 2, in the preamble, under the paragraph heading “Explanation of Provisions”, line 8 of the column, the language “Regulations but recommended removing” is corrected to read “Regulations, but recommended removing”.

LaNita VanDyke,
Chief, Publications and Regulations Branch, Legal Processing Division, Associate Chief Counsel, (Procedure and Administration).

[FR Doc. 2011-22739 Filed 9-6-11; 8:45 am]

BILLING CODE 4830-01-P